COMMITTEE FOR THE IMPLEMENTATION OF TEXTILE AGREEMENTS

Denial of Commercial Availability Request Under the United States - Caribbean Basin Trade Partnership Act (CBTPA)

October 29, 2004.

AGENCY: The Committee for the Implementation of Textile Agreements (CITA).

ACTION: Denial of the request alleging that certain twill rayon/nylon/spandex warp stretch fabric, for use in apparel articles, cannot be supplied by the domestic industry in commercial quantities in a timely manner under the CBTPA.

SUMMARY: On August 31, 2004 the Chairman of CITA received a petition from Mast Industries, Inc. alleging that certain twill rayon/nylon/spandex warp stretch fabric, of specifications detailed below, classified in subheading 5516.22.0040 of the Harmonized Tariff Schedule of the United States (HTSUS), for use in apparel articles, cannot be supplied by the domestic industry in commercial quantities in a timely manner. It requested that apparel of such fabrics be eligible for preferential treatment under the CBTPA. Based on currently available information, CITA has determined that these subject fabrics can be supplied by the domestic industry in commercial quantities in a timely manner and therefore denies the request.

FOR FURTHER INFORMATION CONTACT: Janet Heinzen, International Trade Specialist, Office of Textiles and Apparel, U.S. Department of Commerce, (202) 482-3400.

SUPPLEMENTARY INFORMATION:

Authority: Section 213(b)(2)(A)(v)(II) of the Caribbean Basin Economic Recovery Act, as added by Section 211(a) of the CBTPA; Section 6 of Executive Order No. 13191 of January 17, 2001.

Background:

The CBTPA provides for quota- and duty-free treatment for qualifying textile and apparel products. Such treatment is generally limited to products manufactured from yarns and fabrics formed in the United States or a beneficiary country. The CBTPA also provides for quota- and duty-free treatment for apparel articles that are both cut (or knit-to-shape) and sewn or otherwise assembled in one or more CBTPA beneficiary countries from fabric or yarn that is not formed in the United States, if it has been determined that such fabric or yarn cannot be supplied by the domestic industry in commercial quantities in a timely manner. In Executive Order No. 13191, the President delegated to CITA the authority to determine whether yarns or fabrics cannot be supplied by the domestic industry in commercial quantities in a timely manner under the CBTPA and directed CITA to establish procedures to ensure appropriate public participation in any such determination. On March 6, 2001, CITA published procedures that it will follow in considering requests. (66 FR 13502).

On August 31, 2004, the Chairman of CITA received a petition from Mast Industries, Inc. alleging that certain twill rayon/nylon/spandex warp stretch fabric, of specifications detailed below, classified in HTSUS subheading 5516.22.0040, cannot be supplied by the domestic industry in commercial quantities in a timely manner and requesting quota- and duty-free treatment under the CBTPA for apparel articles that are both cut and sewn in one or more CBTPA beneficiary countries from such fabrics.

Specifications:

HTSUS Subheading: | 5516.22.0040
Fiber Content: | 77% staple rayon/ 20% filament nylon/ 3% filament spandex
Weight: | 245 g/m2
Construction: | 2 X 1 twill weave
Thread Count: | 39.4 warp ends per centimeter and 29.9 filling picks per centimeter
Yarn Number: | Warp: 70 denier filament nylon yarns gimped around a core of 40 denier monofilament spandex; filling: 10/1 c.c. staple rayon yarn

On September 8, 2004, CITA solicited public comments regarding this petition (69 FR 54269), particularly with respect to whether these fabrics can be supplied by the domestic industry in commercial quantities in a timely manner. On September 24, 2004, CITA and the Office of the U.S. Trade Representative offered to hold consultations with the relevant Congressional committees. We also requested the advice of the U.S. International Trade Commission and the relevant Industry Trade Advisory Committees.

The petitioner emphasized that domestic mills do not have the processing capabilities or equipment to manufacture warp stretch woven fabrics. CITA found that there is domestic capacity to weave, dye and finish the subject fabric. A variety of stretch fabric programs are currently being manufactured in the United States. CITA concluded that the domestic industry is capable of supplying the subject fabric in commercial quantities in a timely manner.

Based on the information provided, including review of the petition, public comments and advice received, and our knowledge of the industry, CITA has determined that certain twill rayon/nylon/spandex warp stretch fabric, described above, classified in HTSUS subheading 5516.22.0040, for use in apparel articles, can be supplied by the domestic industry in commercial quantities in a timely manner. Mast Industries' request is denied.

James C. Leonard III,
Chairman, Committee for the Implementation of Textile Agreements.

[FR Doc. E4-3013 Filed 11-3-04; 8:45 am]

BILLING CODE 3510-DS-S